DEPARTMENT OF ENERGY

Federal Energy Regulatory Commission

Combined Notice of Filings #1

September 25, 2015.

Take notice that the Commission received the following electric corporate filings:

Docket Numbers: EC15-210-000.

Applicants: Dominion Solar Projects A, Inc., Dominion Solar Projects I, Inc.

Description: Application for Authorization Under Section 203 of the Federal Power Act and Requests for Waivers, Confidential Treatment, Shortened Comment Period and Expedited Action of Dominion Solar Projects A, Inc., et al.

Filed Date: 9/24/15.

Accession Number: 20150924-5216.

Comments Due: 5 p.m. ET 10/15/15.

Docket Numbers: EC15-211-000.

Applicants: American Transmission Company LLC.

Description: Application for Authority to Acquire Certain Facilities Under Section 203 of the Federal Power Act of American Transmission Company LLC.

Filed Date: 9/24/15.

Accession Number: 20150924-5218.

Comments Due: 5 p.m. ET 10/15/15.

Docket Numbers: EC15-212-000.

Applicants: American Transmission Company LLC.

Description: Application for Authority to Acquire Transmission Facilities Under Section 203 of the Federal Power Act of American Transmission Company LLC.

Filed Date: 9/24/15.

Accession Number: 20150924-5228.

Comments Due: 5 p.m. ET 10/15/15.

Take notice that the Commission received the following electric rate filings:

Docket Numbers: ER11-2044-015; ER10-2475-011; ER10-3246-006; ER10-2474-011; ER12-162-012; ER15-2211-001; ER11-3876-015; ER13-520-004; ER13-521-004; ER13-1441-004; ER13-1442-004; ER12-1626-005; ER13-1266-005; ER13-1267-004; ER13-1268-004; ER13-1269-004; ER13-1270-004; ER13-1271-004; ER13-1272-004; ER13-1273-004; ER10-2601-004; ER10-2611-013; ER10-2605-008; ER12-922-002.

Applicants: MidAmerican Energy Company, Nevada Power Company, PacifiCorp, Sierra Pacific Power Company, Bishop Hill Energy II LLC, MidAmerican Energy Services, LLC, Cordova Energy Company LLC, Pinyon Pines Wind I, LLC, Pinyon Pines Wind II, LLC, Solar Star California XIX, LLC, Solar Star California XX, LLC, Topaz Solar Farms LLC, CalEnergy, LLC,CE Leathers Company, Del Ranch Company, Elmore Company, Fish Lake Power LLC, Salton Sea Power Generation Company, Salton Sea Power L.L.C., Vulcan/BN Geothermal Power Company, Power Resources, Ltd., Saranac Power Partners, L.P., Yuma Cogeneration Associates, Phillips 66 Company.

Description: Notification of Change in Status of the BHE MBR Sellers.

Filed Date: 9/25/15.

Accession Number: 20150925-5208.

Comments Due: 5 p.m. ET 10/16/15.

Docket Numbers: ER15-2715-000.

Applicants: Crosswind Transmission, LLC.

Description: § 205(d) Rate Filing: Crosswind and Sunset View Transmission and Interconnection Agreement to be effective 11/23/2015.

Filed Date: 9/24/15.

Accession Number: 20150924-5148.

Comments Due: 5 p.m. ET 10/15/15.

Docket Numbers: ER15-2716-000.

Applicants: ISO New England Inc., New England Power Pool Participants Committee.

Description: § 205(d) Rate Filing: Revisions to Fast-Start Resource Pricing and Dispatch to be effective 3/31/2017.

Filed Date: 9/24/15.

Accession Number: 20150924-5175.

Comments Due: 5 p.m. ET 10/15/15.

Docket Numbers: ER15-2717-000.

Applicants: ISO New England Inc., New England Power Pool Participants Committee.

Description: § 205(d) Rate Filing: Retirement of Attachment C—RTO Mapping Document to be effective 11/25/2015.

Filed Date: 9/25/15.

Accession Number: 20150925-5037.

Comments Due: 5 p.m. ET 10/16/15.

Docket Numbers: ER15-2718-000.

Applicants: Southern California Edison Company.

Description: § 205(d) Rate Filing: Amended LGIA with Mojave Solar LLC to be effective 9/26/2015.

Filed Date: 9/25/15.

Accession Number: 20150925-5103.

Comments Due: 5 p.m. ET 10/16/15.

Docket Numbers: ER15-2719-000.

Applicants: PJM Interconnection, L.L.C.

Description: Tariff Cancellation: Notice of Cancellation of WMPA SA No. 3454, Queue No. X1-094 to be effective 11/17/2015.

Filed Date: 9/25/15.

Accession Number: 20150925-5105.

Comments Due: 5 p.m. ET 10/16/15.

Docket Numbers: ER15-2720-000.

Applicants: WestRock CP, LLC.

Description: § 205(d) Rate Filing: WestRock CP Notice of Succession and Name Change Amendment Filing to be effective 9/26/2015.

Filed Date: 9/25/15.

Accession Number: 20150925-5146.

Comments Due: 5 p.m. ET 10/16/15.

Take notice that the Commission received the following electric securities filings:

Docket Numbers: ES15-73-000.

Applicants: Portland General Electric Company.

Description: Application of Portland General Electric Company for Authority to Issue Short-term Debt Securities.

Filed Date: 9/25/15.

Accession Number: 20150925-5044.

Comments Due: 5 p.m. ET 10/16/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2015.
Nathaniel J. Davis, Sr.,
Deputy Secretary.

[FR Doc. 2015-25014 Filed 10-1-15; 8:45 am]

BILLING CODE 6717-01-P